DEPARTMENT OF EDUCATION

34 CFR Parts 668, 686, 690, and 691

[Docket ID ED-2009-OPE-0001]

RIN 1840-AC96

Student Assistance General Provisions; Teacher Education Assistance for College and Higher Education (TEACH) Grant Program; Federal Pell Grant Program; Academic Competitiveness Grant Program and National Science and Mathematics Access To Retain Talent Grant Program

AGENCY: Office of Postsecondary Education, Department of Education.

ACTION: Interim final rule; correction.

SUMMARY: The Department of Education is correcting an interim final regulation that was published in the Federal Register on May 1, 2009. These interim final regulations implemented provisions of the Higher Education Act of 1965 (HEA), as amended by the Ensuring Continued Access to Student Loans Act of 2008 (ECASLA) and the Higher Education Opportunity Act of 2008 (HEOA), related to the Academic Competitiveness Grant (ACG) and National Science and Mathematics Access to Retain Talent Grant (National SMART Grant) Programs.

DATES: Effective July 1, 2009.

FOR FURTHER INFORMATION CONTACT: Sophia McArdle, Office of Postsecondary Education, U.S. Department of Education, 1990 K Street, NW., Room 8019, Washington, DC 20006-8544. Telephone: (202) 219-7078.

If you use a telecommunications device for the deaf (TDD), you may call the Federal Relay Service (FRS) at 1-800-877-8339.

Individuals with disabilities can obtain this document in an accessible format (e.g., braille, large print, audiotape, or computer diskette) on request to the contact person listed under this section.

SUPPLEMENTARY INFORMATION: Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions of the Assistant Secretary for Postsecondary Education.

In FR Doc. E9-10094, appearing on page 20210 in the Federal Register on May 1, 2009, the following corrections are made:

§ 691.63 [Corrected]

1. On page 20224, in the second column, in § 691.63, in amendment 19, instruction G is corrected to read as follows: “Revising paragraph (c)(3).”

2. On page 20224, in the second column, the regulatory text of § 691.63 is corrected by setting out the revised paragraph (c)(3) as follows:

§ 691.63 Calculation of a grant for a payment period.

* * * * *

(c) * * *

(3) Multiplying his or her ACG or National SMART Grant annual award determined under paragraph (c)(2) of this section by the following fraction as applicable: or

In a program using semesters or trimesters—

; or

In a program using quarters—

; and

* * * * *

Dated: June 24, 2009.
Daniel T. Madzelan,
Director, Forecasting and Policy Analysis.

[FR Doc. E9-15369 Filed 6-29-09; 8:45 am]

BILLING CODE 4000-01-P